DEPARTMENT OF ENERGY

Federal Energy Regulatory Commission

Combined Notice of Filings #2

Take notice that the Commission received the following electric rate filings:

Docket Numbers: ER10-2507-010.

Applicants: Westar Energy, Inc.

Description: Notice of Non-Material Change in Status of Westar Energy, Inc.

Filed Date: 1/6/17.

Accession Number: 20170106-5116.

Comments Due: 5 p.m. ET 1/27/17.

Docket Numbers: ER16-2190-003; ER16-2191-003; ER16-2453-004.

Applicants: Brady Wind, LLC, Brady Wind II, LLC, Brady Interconnection, LLC.

Description: Notice of Non-material Change in Status of Brady Wind, LLC, et. al.

Filed Date: 1/6/17.

Accession Number: 20170106-5093.

Comments Due: 5 p.m. ET 1/27/17.

Docket Numbers: ER17-752-000.

Applicants: PJM Interconnection, L.L.C.

Description: Notice of Cancellation of First Revised Service Agreement No. 2359, Queue No. U3-003 of PJM Interconnection, L.L.C.

Filed Date: 1/6/17.

Accession Number: 20170106-5057.

Comments Due: 5 p.m. ET 1/27/17.

Docket Numbers: ER17-753-000.

Applicants: PJM Interconnection, L.L.C.

Description: § 205(d) Rate Filing: Revisions to OATT Schedule 12—Appendix A re: RTEP Projects Approved in Dec 2016 to be effective 4/6/2017.

Filed Date: 1/6/17.

Accession Number: 20170106-5061.

Comments Due: 5 p.m. ET 1/27/17.

Docket Numbers: ER17-754-000.

Applicants: Southern California Edison Company.

Description: § 205(d) Rate Filing: GIA and Distribution Service Agmt Lendlease California City Solar LLC to be effective 1/7/2017.

Filed Date: 1/6/17.

Accession Number: 20170106-5067.

Comments Due: 5 p.m. ET 1/27/17.

Docket Numbers: ER17-755-000.

Applicants: Midcontinent Independent System Operator, Inc.

Description: § 205(d) Rate Filing: 2017-01-06_MISO Tariff Clean-up filing to be effective 1/7/2017.

Filed Date: 1/6/17.

Accession Number: 20170106-5078.

Comments Due: 5 p.m. ET 1/27/17.

Docket Numbers: ER17-756-000.

Applicants: Midcontinent Independent System Operator, Inc.

Description: § 205(d) Rate Filing: 2017-01-06_SA 2884 Otter Tail-Crowned Ridge 1st Rev GIA (G736) to be effective 1/7/2017.

Filed Date: 1/6/17.

Accession Number: 20170106-5085.

Comments Due: 5 p.m. ET 1/27/17.

Docket Numbers: ER17-756-000.

Applicants: Midcontinent Independent System Operator, Inc.

Description: § 205(d) Rate Filing: 2017-01-06_SA 2884 Otter Tail-Crowned Ridge 1st Rev GIA (G736) to be effective 1/7/2017.

Filed Date: 1/6/17.

Accession Number: 20170106-5086.

Comments Due: 5 p.m. ET 1/27/17.

Docket Numbers: ER17-757-000.

Applicants: Duke Energy Carolinas, LLC.

Description: § 205(d) Rate Filing: Amendment to NCEMC NITSA SA 210 to be effective 1/1/2017.

Filed Date: 1/6/17.

Accession Number: 20170106-5147.

Comments Due: 5 p.m. ET 1/27/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 6, 2017.
Kimberly D. Bose,
Secretary.

[FR Doc. 2017-00564 Filed 1-11-17; 8:45 am]

BILLING CODE 6717-01-P